DEPARTMENT OF COMMERCE

International Trade Administration

[OMB Control Number: 0625-0143]

Renewal of the United States Manufacturing Council

AGENCY: International Trade Administration, Department of Commerce.

ACTION: Notice of charter renewal and recruitment.

SUMMARY: On March 23, 2022, the charter of the United States Manufacturing Council (Council) was renewed for a two-year period, ending March 23, 2024. The Council is a federal advisory committee under the Federal Advisory Committee Act. For further information on the Council charter renewal, please visit: https://www.facadatabase.gov/FACA/apex/FACAPublicCommittee?id=a10t0000001gzmbAAA.

DATES: All applications for immediate consideration of appointment must be received by 5:00 p.m. Eastern Daylight Time (EDT) on May 27, 2022. After this deadline, applications will be accepted under this notice on a rolling basis for the remainder of the charter term to fill any vacancies that may arise.

ADDRESSES: Please submit applications by email to usmc@trade.gov, United States Manufacturing Council Designated Federal Officer.

FOR FURTHER INFORMATION CONTACT: Jaron Bass—telephone: 202-839-2357, email: Jaron.Bass@trade.gov or Amanda Lawrence—telephone: 202-322-9146, email: Amanda.Lawrence@trade.gov.

SUPPLEMENTARY INFORMATION: The Council advises the Secretary of Commerce (Secretary) on matters relating to the United States manufacturing sector and provides a means of ensuring regular input from the manufacturing sector to the United States Government. The Council advises the Secretary on government policies and programs that affect the global competitiveness of U.S. manufacturing and proposes solutions to industry-related problems. The Council also may act as a liaison among the stakeholders represented by the membership on current and emerging issues in the manufacturing sector. The Council recommends to the Secretary ways to ensure the United States remains the preeminent destination for investment in manufacturing throughout the world.

The Council consists of approximately thirty members appointed by the Secretary. Members are to represent companies and organizations operating in the U.S. manufacturing space, including:

a. Firms that manufacture goods in the United States, including manufacturing firms that produce advanced manufacturing technologies;

b. Associations representing manufacturers in the United States;

c. standards development organizations; and

d. labor unions

Members shall represent a broad range of products, company sizes, demographics, and geographic locations and be drawn from large, medium, and small manufacturing companies, as well as from organizations including labor unions. Members also may come from academia.

Members of the Council are selected, in accordance with applicable Department of Commerce guidelines, based on their ability to carry out the objectives of the Council as set forth above and in a manner that ensures that the Council is balanced in terms of points of view, industry subsector, geography, and company size. The diverse membership of the Council assures perspectives and expertise reflecting the full breadth of the Council's responsibilities, and, where possible, the Department of Commerce will also consider the ethnic, racial, and gender diversity and various abilities of the United States population.

Other than members from academia, members serve in a Representative capacity, representing the views and interests of their particular business sector, and not as Special Government Employees (SGEs). Members from academia serve as experts, in their personal capacities, and therefore serve as Special Government Employees (SGEs). 18 U.S.C. 202. SGEs are subject to conflict-of-interest laws and regulations, including (but not limited to) the obligation to annually file a New Entrant Confidential Financial Disclosure Report (OGE Form 450) and complete ethics training. Members will be individually advised of the capacity in which they will serve through their appointment letters.

Once selected, members will be appointed for a term of two years and serve at the pleasure of the Secretary. The Secretary may at her discretion reappoint any member to an additional term or terms, provided that the member proves to work effectively on the Council and their knowledge and advice continues to further the objectives of the Council.

Application Instructions

To be considered for membership, candidates should submit the following information:

1. Name and title of the individual requesting consideration.

2. A sponsor letter from the applicant on the sponsoring entity's letterhead containing a brief statement of why the applicant should be considered for membership on the Council. This sponsor letter should also address the applicant's experience and leadership related to the manufacturing sector.

3. The applicant's personal resume and short bio (less than 300 words).

4. An affirmative statement that the applicant meets all eligibility criteria, including an affirmative statement that the applicant is not required to register as a foreign agent under the Foreign Agents Registration Act of 1938, as amended.

5. Information regarding the ownership and control of the sponsoring entity, including its stock ownership as appropriate.

6. The sponsoring entity's total number of full-time employee's place of incorporation, product or service lines, major markets in which the entity operates, and the entity's experience in manufacturing.

7. All relevant contact information, including mailing address, fax, email, phone number, and support staff information where relevant.

Dated: April 5, 2022.
Barton Meroney,
Executive Director for Manufacturing, Office of Manufacturing, Industry & Analysis.

[FR Doc. 2022-07713 Filed 4-11-22; 8:45 am]

BILLING CODE 3510-DR-P